DEPARTMENT OF COMMERCE

International Trade Administration

Export Trade Certificate of Review

AGENCY: International Trade Administration, Commerce.

ACTION: Notice of Issuance of an Amended Export Trade Certificate of Review, Application No. 97-5A003.

SUMMARY: The Department of Commerce issued an amended Export Trade Certificate of Review to the Association for the Administration of Rice Quotas, Inc. on February 5, 2002. Notice of issuance of the original Certificate was published in the Federal Register on January 28, 1998, (63 FR 4220).

FOR FURTHER INFORMATION CONTACT: Vanessa M. Bachman, Acting Director, Office of Export Trading Company Affairs, International Trade Administration, (202) 482-5131, oetca@ita.doc.gov. This is not a toll-free number.

SUPPLEMENTARY INFORMATION: Title III of the Export Trading Company Act of 1982 (15 U.S.C. 4001 et seq.) authorizes the Secretary of Commerce to issue Export Trade Certificates of Review. The regulations implementing Title III are found at 15 CFR part 325 (2000).

The Office of Export Trading Company Affairs (“OETCA”) is issuing this notice pursuant to 15 CFR 325.6(b), which requires the Department of Commerce to publish a summary of a Certificate in the Federal Register. Under Section 305(a) of the Act and 15 CFR 325.11(a), any person aggrieved by the Secretary's determination may, within 30 days of the date of this notice, bring an action in any appropriate district court of the United States to set aside the determination on the ground that the determination is erroneous.

Description of Amended Certificate

The Association for the Administration of Rice Quotas, Inc. (“AARQ”) original Certificate was issued on January 21, 1998 (63 FR 4220, January 28, 1998), and last amended on April 5, 2001, (66 FR 21368, April 30, 2001).

AARQ's Export Trade Certificate of Review has been amended to:

1. Add the following companies as new “Members” of the Certificate within the meaning of section 325.2(1) of the Regulations (15 CFR 325.2(1)): Rickmers Rice USA, Inc., St. Louis, Missouri; Commodity Specialists Company, Minneapolis, Minnesota.

2. Delete the following companies as “Members” of the Certificate within the meaning of section 325.2(1) of the Regulations (15 CFR 325.2(1)): Affiliated Rice Milling, Inc., Alvin , Texas; Garnac Grain Co., Inc., Overland Park, Kansas.

3. Change the listings of the names of the current Members as follows: “AFE (USA), Inc., Houston, Texas” to “AFE (USA), Inc., Portland, Oregon;” “California Pacific Rice Milling, Ltd., Arbuckle, California” to “CAL PAC Investments, LLC dba California Pacific Rice Milling, Woodland, California;” “Glencore Ltd., Stamford, Connecticut (a subsidiary of Glencore International AG), for the activities of Glencore Grain Division and Glencore Ltd.'s subsidiary, LaGrain International Inc., Baton Rouge, Louisiana;” to “Glencore Ltd., Stamford, Connecticut (a subsidiary of Glencore International AG), for the activities of Glencore Grain Division.”

Dated: February 12, 2002.
Vanessa M. Bachman,
Acting Director, Office of Export Trading Company Affairs.

[FR Doc. 02-3935 Filed 2-15-02; 8:45 am]

BILLING CODE 3510-DR-P